DEPARTMENT OF DEFENSE

Office of the Secretary

Department of Defense Education Activity (DoDEA); Overseas Dependents' Schools National Advisory Panel (NAP) on the Education of Dependents With Disabilities.

ACTION: Notice.

SUMMARY: Pursuant to Public Law 92-463, as amended (5 U.S.C. app. 2 § 10), the Federal Advisory Committee Act, notice is hereby given that a meeting of the Overseas Dependents' School National Advisory Panel (NAP) on the Education of Dependents with Disabilities is scheduled to be held from 8 a.m. to 3 p.m. on May 8-10, 2001. The meeting is open to the public and will be held at the Department of Defense Education Activity, 4040 North Fairfax Drive, Arlington, VA 22203. The purpose of the meeting is to: (1) Review the response to the NAP's recommendations from its April 2000 meeting; (2) review and comment on data and information provided by the Department of Defense Education Activity; and (3) review and comment on a subcommittee report on special education services for secondary level students with disabilities. Persons desiring to attend the meeting or desiring to make oral presentations or submit written statement for consideration by the panel must contact Ms. Diana Patton by April 30, 2001, at (703) 696-4492, extension 1947 or at her email address, dpatton@hq.odedodea.edu.

Dated: February 28, 2001.
L.M. Bynum,
Alternate OSD Federal Register Liaison Officer, DoD.

[FR Doc. 01-5387 Filed 3-3-01; 8:45 am]

BILLING CODE 5001-10-M